NUCLEAR REGULATORY COMMISSION

[Docket No. 72-22-ISFSI; ASLBP No. 97-732-02-ISFSI]

Atomic Safety and Licensing Board: Before Administrative Judges: G. Paul Bollwerk, III, Chairman, Dr. Jerry R. Kline, Dr. Peter S. Lam

In the Matter of Private Fuel Storage, L.L.C. (Independent Spent Fuel Storage Installation); Notice (Notice of Hearing and of Opportunity to Make Oral or Written Limited Appearance Statements)

April 19, 2000.

The Atomic Safety and Licensing Board hereby gives notice that it will convene an evidentiary hearing to receive testimony and exhibits and allow the cross-examination of witnesses relating to certain matters at issue in this proceeding regarding the June 1997 application of Private Fuel Storage, L.L.C., (PFS) for a license under 10 CFR part 72 to construct and operate an independent spent fuel storage installation (ISFSI) on the reservation of the Skull Valley Band of Goshute Indians (Skull Valley Band) in Skull Valley, Utah. In addition, the Board gives notice that, in accordance with 10 CFR 2.715(a), it will entertain oral limited appearance statements from members of the public in connection with this proceeding.

A. Date, Time, and Location of Evidentiary Hearing

The Board will conduct an evidentiary hearing on certain issues relating to this proceeding, currently scheduled to include contentions Utah E/Confederated Tribes F, Financial Assurance; Utah H, Inadequate Thermal Design; Utah R, Emergency Plan; and Utah S, Decommissioning, beginning at 9:30 a.m., on Monday, June 19, 2000, in the Hilton Salt Lake City, Wasatch Room, Mezzanine Level, 150 West 500 South, Salt Lake City, Utah. The hearing on these issues shall continue from day-to-day until concluded.

The public is advised that, in accordance with 10 CFR 2.790(b)(6), all or part of the sessions regarding contentions Utah E/Confederated Tribes F and Utah S may be closed to the public because the matters at issue may involve the discussion of confidential proprietary information.

B. Date, Time, and Location of Oral Limited Appearance Statement Sessions

The Board will conduct sessions to provide the public with an opportunity to make oral limited appearance statements on the following dates at the specified locations and times:

1. Date: Friday, June 23, 2000.

Times: Afternoon Session—1 p.m. to 4 p.m. Mountain Daylight Time (MDT). Evening Session—7 p.m. to 9:30 p.m. MDT.

Location: Hilton Salt Lake City, Wasatch Room—Mezzanine Level, 150 West 500 South, Salt Lake City, Utah.

2. Date: Saturday, June 24, 2000.

Times: Afternoon Session (if there is sufficient interest)— 1:00 p.m. to 4:00 p.m. MDT.

Location: Same as Session 1 above

3. Date: Friday, June 30, 2000.

Times: Afternoon Session—1:00 p.m. to 4:00 p.m. MDT; Evening Session—7:00 p.m. to 9:30 p.m. MDT.

Location: Tooele High School Auditorium, 240 West Buffalo Blvd., Tooele, Utah

4. Date: Saturday, July 1, 2000.

Times: Afternoon Session (if there is sufficient interest)—1:00 p.m. to 4:00 p.m. MDT.

Location: Same as Session 3 above.

C. Participation Guidelines for Oral Limited Appearance Statements

Any person not a party to the proceeding will be permitted to make an oral statement setting forth his or her position on matters of concern relating to this proceeding. Although these statements do not constitute testimony or evidence, they nonetheless may help the Board and/or the parties in their deliberations in connection with the issues to be considered in this proceeding.

Oral limited appearance statements will be entertained during the hours specified above, or such lesser time as may be necessary to accommodate the speakers who are present. If, however, all scheduled and unscheduled speakers present at a session have made a presentation, the Licensing Board reserves the right to terminate the session before the ending time listed above. The Licensing Board also reserves the right to cancel the Saturday sessions scheduled above if there has not been a sufficient showing of public interest as reflected by the number of preregistered speakers.

The time allotted for each statement normally will be no more than five minutes, but may be further limited depending on the number of written requests to make an oral statement that are submitted in accordance with section D below and/or the number of persons present at the designated times.

D. Submitting a Request To Make an Oral Limited Appearance Statement

Persons wishing to make an oral statement who have submitted a timely written request to do so will be given priority over those who have not filed such a request. In order to be considered timely, a written request to make an oral statement must be mailed, faxed, or sent by e-mail so as to be received by close of business (4:30 p.m. EST) on Wednesday, May 31, 2000. The request must specify the date (June 23, June 24, June 30, or July 1) and the session on that day (afternoon or evening) during which the requester wishes to make an oral statement. Based on its review of the requests received on May 31, 2000, the Licensing Board may decide that either or both of the Saturday sessions will not be held due to lack of adequate interest in those sessions.

Written requests to make an oral statement should be submitted to:

Mail: Office of the Secretary, Rulemakings and Adjudications Staff, U.S. Nuclear Regulatory Commission, Washington, DC 20555-0001

Fax: (301) 415-1101 (verification (301) 415-1966)

E-mail: hearingdocket@nrc.gov

In addition, using the same method of service, a copy of the written request to make an oral statement should be sent to the Chairman of this Licensing Board as follows:

Mail: Administrative Judge G. Paul Bollwerk, III, Atomic Safety and Licensing Board Panel, Mail Stop T-3F23, U.S. Nuclear Regulatory Commission, Washington, DC 20555-0001

Fax: (301) 415-5599 (verification (301) 415-7550)

E-mail: gpb@nrc.gov

E. Submitting Written Limited Appearance Statements

As the Board has noted previously, a written limited appearance statement can be submitted at any time. Such statements should be sent to the Office of the Secretary using the methods prescribed above, with a copy to the Licensing Board Chairman.

Documents relating to the PFS license application at issue in this proceeding currently are on file at the Commission's Public Document Room, the Gelman Building, 2120 L Street, NW, Washington, DC 20003-1527, and at the University of Utah, Marriott Library, Documents Division, 295 S. 1500 East, Salt Lake City, Utah 84112-0860.

Dated: April 19, 2000, Rockville, Maryland.
For the Atomic Safety and Licensing Board.*
* Copies of this notice were sent this date by Internet e-mail transmission to counsel for (1) applicant PFS; (2) intervenors Skull Valley Band, Ohngo Gaudadeh Devia, Confederated Tribes of the Goshute Reservation, Southern Utah Wilderness Alliance, and the State of Utah; and (3) the NRC staff.
G. Paul Bollwerk, III,
Administrative Judge.

[FR Doc. 00-10292 Filed 4-24-00; 8:45 am]

BILLING CODE 7590-01-P